FEDERAL COMMUNICATIONS COMMISSION

47 CFR Part 73

[DA 23-310; MB Docket No. 22-337; RM-11930; FR ID 136535]

Radio Broadcasting Services; Dennison, Ohio

AGENCY: Federal Communications Commission.

ACTION: Final rule.

SUMMARY: This document amends the FM Table of Allotments, of the Federal Communications Commission's (Commission) rules, by allotting Channel 272A at Dennison, Ohio, as the community's first local service. A staff engineering analysis indicates that Channel 272A can be allotted to Dennison, Ohio, consistent with the minimum distance separation requirements of the Commission's rules, with a site restriction of 2.7 km (1.7 miles) west of the community. The reference coordinates are 40-23-54 NL and 81-21-33 WL.

DATES: Effective May 26, 2023.

FOR FURTHER INFORMATION CONTACT: Rolanda F. Smith, Media Bureau, (202) 418-2700.

SUPPLEMENTARY INFORMATION: This is a synopsis of the Commission's Report and Order, adopted April 11, 2023, and released April 11, 2023. The full text of this Commission decision is available online at https://apps.fcc.gov/ecfs/. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Ohio by adding an entry for “Dennison” to read as follows:

§ 73.202 Table of Allotments.

* * * * *

(b) * * *

Table 1 to Paragraph (b)
[U.S. States]
| Channel No.
* * * * *
Ohio
Dennison | 272A
* * * * *

[FR Doc. 2023-08203 Filed 4-20-23; 8:45 am]

BILLING CODE 6712-01-P